DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than December 8, 2011.

Interested persons are invited to submit written comments regarding the subject matter of the investigations to the Director, Office of Trade Adjustment Assistance, at the address shown below, not later than December 8, 2011.

The petitions filed in this case are available for inspection at the Office of the Director, Office of Trade Adjustment Assistance, Employment and Training Administration, U.S. Department of Labor, Room N-5428, 200 Constitution Avenue NW., Washington, DC 20210.

Signed at Washington, DC, this 10th day of November 2011.
Michael W. Jaffe,
Certifying Officer, Office of Trade Adjustment Assistance.

Appendix
[31 TAA petitions instituted between 10/24/11 and 10/28/11]
TA-W | Subject firm (petitioners) | Location | Date of institution | Date of petition
81001 | Freeman Metal Products, Inc. (Company) | Ahoskie, NC | 10/24/11 | 10/20/11
81002 | GFSI, Inc. dba GEAR For Sports (Company) | Chillicothe, MO | 10/24/11 | 10/21/11
81003 | BNY Mellon (Workers) | Pawtucket, RI | 10/24/11 | 10/20/11
81004 | Pace American Enterprises, Inc. (State/One-Stop) | McGregor, TX | 10/24/11 | 10/20/11
81005 | Terex USA LLC (Company) | Wilmington, NC | 10/24/11 | 10/21/11
81006 | Georgia-Pacific Corp-Plywood Mill (State/One-Stop) | Crossett, AR | 10/25/11 | 10/24/11
81007 | A. Schulman (Union) | Nashville, TN | 10/25/11 | 10/19/11
81008 | Lintelle Engineering, Inc. (Company) | Scotts Valley, CA | 10/25/11 | 10/19/11
81009 | Birdseye Foods (Union) | Fulton, NY | 10/25/11 | 10/24/11
81010 | Velsicol Chemical Corporation (Union) | Memphis, TN | 10/25/11 | 10/24/11
81011 | Cyberdyne Inc. (Workers) | Monongahela, PA | 10/25/11 | 10/24/11
81012 | Maersk Line, A Subsidiary of A.P. Moller Maersk (Company) | The Woodlands, TX | 10/25/11 | 10/24/11
81013 | Maersk Line (Company) | Miami, FL | 10/25/11 | 10/24/11
81014 | Maersk Line (Company) | Charlotte, NC | 10/25/11 | 10/24/11
81015 | Pageland Screen Printers, Inc. (Company) | Pageland, SC | 10/25/11 | 10/24/11
81016 | Smart Paper Holdings LLC (State/One-Stop) | Hamilton, OH | 10/26/11 | 10/25/11
81017 | Integrity Building Systems Inc. (Company) | Milton, PA | 10/26/11 | 10/21/11
81018 | Kandy Kiss (State/One-Stop) | Sylmar, CA | 10/26/11 | 10/25/11
81019 | Wells Fargo (Workers) | Chester, PA | 10/26/11 | 10/25/11
81020 | Turner & Seymour Manufacturing Company (State/One-Stop) | Torrington, CT | 10/27/11 | 10/26/11
81021 | Bayer Crop Science (Union) | Institute, WV | 10/27/11 | 10/26/11
81022 | Apex Tool Group (Workers) | York, PA | 10/27/11 | 10/25/11
81023 | Hanet Plastics USA (Workers) | Plattsburgh, NY | 10/27/11 | 10/24/11
81024 | Atmel Corporation (Company) | Colorado Springs, CO | 10/27/11 | 10/25/11
81025 | Dendreon Corporation (State/One-Stop) | Seattle, WA | 10/28/11 | 10/25/11
81026 | Cone Denim White Oak Plant (Company) | Greensboro, NC | 10/28/11 | 10/27/11
81027 | The Wise Company, Inc. (State/One-Stop) | Rector, AR | 10/28/11 | 10/27/11
81028 | Thomasville Furniture (Workers) | Lenoir, NC | 10/28/11 | 10/27/11
81029 | Hostess Brands (Company) | Various Locations | 10/28/11 | 10/27/11
81030 | Calisolar Inc. (Company) | Sunnyvale, CA | 10/28/11 | 10/07/11
81031 | Ultra Blend LLC. (Company) | Charlotte, NC | 10/28/11 | 09/15/11

[FR Doc. 2011-30381 Filed 11-25-11; 8:45 am]

BILLING CODE 4510-FN-P